DEPARTMENT OF THE TREASURY

Agency Information Collection Activities; Submission for OMB Review; Comment Request; Multiple Financial Crimes Enforcement Network (FinCEN) Information Collection Requests

AGENCY: Financial Crimes Enforcement Network, U.S. Department of the Treasury.

ACTION: Notice.

SUMMARY: The Department of the Treasury, as part of its continuing effort to reduce paperwork and respondent burden, invites the general public and other federal agencies to comment on proposed or continuing information collections, as required by the Paperwork Reduction Act of 1995.

DATES: Comments should be received on or before August 29, 2025 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION: Financial Crimes Enforcement Network (FinCEN)

1. Title: Prohibition on Correspondent Accounts for Foreign Shell Banks; Records Concerning Owners of Foreign Banks and Agents for Service of Legal Process.

OMB Control Number: 1506-0043.

Form Number: Optional form—certification regarding correspondent accounts for foreign banks.

Abstract: FinCEN is issuing this notice to renew the OMB control number for regulations prohibiting a covered financial institution from maintaining correspondent accounts for foreign shell banks and requiring a covered financial institution to maintain records identifying the owners of certain foreign banks and agents residing in the United States who have agreed to accept service of legal process for records regarding correspondent accounts.

Affected Public: Businesses or other for-profit institutions, and non-profit institutions.

Type of Review: Renewal without change of a currently approved information collection.

Estimated Number of Potential Respondents: 12,637.

Estimated Number of Expected Respondents: 104.

Frequency of Response: As required.

Estimated Total Number of Annual Responses: 18,408.

Estimated Time per Response: 4 hours.

Estimated Total Annual Burden Hours: 73,632 hours.

2. Title: Additional records to be made and retained by casinos.

OMB Control Number: 1506-0054.

Abstract: FinCEN is issuing this notice to renew the OMB control number for regulations requiring additional records to be made and retained by casinos.

Affected Public: Businesses or other for-profit institutions.

Type of Review: Renewal without change of a currently approved information collection.

Estimated Number of Respondents: 1292.

Frequency of Response: As required.

Estimated Total Number of Annual Responses: 2,183,460.

Estimated Average Recordkeeping Time per Response: 5 hours.

Estimated Total Annual Burden Hours: 118,863 hours.

3. Title: Reports of transactions with foreign financial agencies.

OMB Control Number: 1506-0055.

Abstract: FinCEN is issuing this notice to renew the OMB control number for regulations requiring reports of transactions with designated FFAs.

Affected Public: Businesses or other for-profit institutions, and non-profit institutions.

Type of Review: Renewal without change of a currently approved information collection.

Estimated Number of Potential Respondents: 1292.

Estimated Number of Expected Respondents: 40.

Frequency of Response: As required.

Estimated Total Number of Annual Responses: 2,183,460.

Estimated Average Time per Response: 301 hours.

Estimated Total Annual Burden Hours: 118,863 hours.

4. Title: Reporting obligations on foreign bank relationships with Iranian-linked financial institutions designated under IEEPA and IRGC-linked persons designated under IEEPA.

OMB Control Number: 1506-0066.

Form Number: Optional form—certification for purposes of section 104(e) of CISADA.

Abstract: FinCEN is issuing this notice to renew the OMB control number for the CISADA regulations that require, upon receiving a CISADA Request, a U.S. bank that maintains a correspondent account for a specified foreign bank to inquire with the foreign bank and report to FinCEN with respect to transactions or other financial services provided by that foreign bank to Iranian-linked financial institutions and IRGC-linked persons.

Affected Public: Businesses or other for-profit institutions, and non-profit institutions.

Type of Review: Renewal without change of a currently approved information collection.

Estimated Number of Respondents: 9,384.

Frequency of Response: As required.

Estimated Total Number of Annual Responses: 72.

Estimated Average Time per Response: 45 minutes.

Estimated Total Annual Burden Hours: 156 hours.

Authority: 44 U.S.C. 3501 et seq.

Melody Braswell,
Treasury PRA Clearance Officer.

[FR Doc. 2025-14405 Filed 7-29-25; 8:45 am]

BILLING CODE 4810-02-P